DEPARTMENT OF ENERGY

Federal Energy Regulatory Commission

[Project No. 6731-015]

Coneross Power Corporation; Notice Soliciting Scoping Comments

Take notice that the following hydroelectric application has been filed with the Commission and is available for public inspection.

a. Type of Application: Subsequent Minor License.

b. Project No.: 6731-015.

c. Date filed: February 28, 2019.

d. Applicant: Coneross Power Corporation.

e. Name of Project: Coneross Hydroelectric Project.

f. Location: The Coneross Hydroelectric Project is located on Coneross Creek in Oconee County, South Carolina. The project does not occupy Federal lands.

g. Filed Pursuant to: Federal Power Act 16 U.S.C. 791 (a)-825(r).

h. Applicant Contact: Mr. Kevin Webb, Hydro Licensing Manager, Enel Green Power North America, Inc., 100 Brickstone Square, Suite 300, Andover, MA 01810, (978) 935-6039.

i. FERC Contact: Jeanne Edwards, (202) 502-6181, or jeanne.edwards@ferc.gov.

j. Deadline for filing scoping comments: April 9, 2020.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE, Washington, DC 20426. The first page of any filing should include docket number P-6731-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Coneross Project consists of: (1) An existing 288-foot-long, 25-foot-high concrete dam with a 123-foot-long, 20-foot-wide concrete spillway with 1.5-foot-high flashboards; (2) an existing nine-acre reservoir having a gross storage capacity of 13.5 acre-feet at elevation 746.5 feet mean sea level; (3); a 780-foot-long, 8-foot in diameter concrete penstock with an 8-foot-wide and 8-foot-high intake gate and a 25-foot-long, 19-foot-deep trash rack structure with 2.0-inch clear bar spacing; (4) a powerhouse containing three generating units, two Kaplan hydro turbines and one Francis hydro turbine for a total installed capacity of 889 kilowatts; (5) a 95-foot-long tailrace; (6) a 1,300-foot-long bypassed reach between the dam and the tailrace; (7); an existing 93-foot-long, 12.47-kilovolt transmission line; and (8) appurtenant facilities. The average annual generation was 2,215,800 kilowatt-hours for the period 2008 to 2017.

Coneross Power is operated in a modified run-of-river mode using automatic pond level control of the turbine-generator units to minimize fluctuations of the impoundment surface elevation, and maintain the impoundment elevation within 6 inches of the spillway flashboard crest from March 1 through June 30, and within 18 inches of the flashboard crest from July 1 through the end of February. The project bypasses approximately 1,300 feet of the Coneross Creek. A 36-cubic feet per second (cfs) minimum flow is continuously released into the Coneross Creek downstream of the project tailrace. In addition, a continuous minimum flow release of 35 cfs from February 1 to May 31, and 25 cfs from June 1 to January 31, or inflow, whichever is less, is released into the bypassed reach. The minimum bypassed reach flow is provided through a sluice gate in the west non-overflow section of the dam.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

n. You may also register online at http://www.ferc.gov/docs-filing/esubscription.asp to be notified via email of new filings and issuances related to this or other pending projects. For assistance, contact FERC Online Support.

o. Scoping Process

Commission staff intend to prepare a single Environmental Assessment (EA) for the Coneross Hydroelectric Project in accordance with the National Environmental Policy Act. The EA will consider both site-specific and cumulative environmental impacts and reasonable alternatives to the proposed action.

At this time, we do not anticipate holding on-site public or agency scoping meetings. Instead, we are soliciting your comments and suggestions on the preliminary list of issues and alternatives to be addressed in the EA, as described in scoping document 1 (SD1), issued February 20, 2020. We are extending the comment deadline set in the February 20, 2020 SD1 to provide an additional 30 days from the date of this notice to file comments.

Copies of the SD1 outlining the subject areas to be addressed in the EA were distributed to the parties on the Commission's mailing list and the applicant's distribution list. Copies of SD1 may be viewed on the web at http://www.ferc.gov using the eLibrary link. Enter the docket number excluding the last three digits in the docket number field to access the document. For assistance, call 1-866-208-3676 or for TTY, (202) 502-8659.

Dated: March 10, 2020.
Kimberly D. Bose,
Secretary.

[FR Doc. 2020-05392 Filed 3-16-20; 8:45 am]

BILLING CODE 6717-01-P